DEPARTMENT OF THE INTERIOR

Fish and Wildlife Service

California Aqueduct Operation and Maintenance Project in Kings and Kern County, San Joaquin Valley, CA

AGENCY: Fish and Wildlife Service, Interior.

ACTION: Notice of availability and receipt of application.

SUMMARY: We, the U.S. Fish and Wildlife Service (Service), announce that the California Department of Water Resources San Joaquin Field Division (Applicant) has applied for an incidental take permit pursuant to section 10(a)(1)(B) of the Endangered Species Act of 1973, as amended (Act). We are considering the issuance of a 30-year permit to the Applicant that would authorize take of 20 species incidental to the Applicant's proposed operation and maintenance activities on sections of the California Aqueduct and Coastal Branch Phase 1 canal, as well as seven pumping plants and two Operations and Maintenance centers within the San Joaquin Field Divisions jurisdiction in Kern and Kings County, California. These activities within the 11,816-acre project area would result in the loss of up to 360 acres of permanent habitat loss to covered species habitat and 935 acres of temporary impacts to covered species habitat.

We request comments from the public on the permit application and an Environmental Assessment. The permit application includes the proposed Habitat Conservation Plan (Plan) and an accompanying Implementing Agreement. The Plan describes the proposed project and the measures that the Applicant would undertake to minimize and mitigate take of the covered species.

DATES: We must receive your written comments on or before February 11, 2008.

ADDRESSES: Please address written comments to Lori Rinek, Chief, Conservation Planning and Recovery Division, U.S. Fish and Wildlife Service, Sacramento Fish and Wildlife Office, 2800 Cottage Way, W-2605, Sacramento, California 95825. You also may send comments by facsimile to (916) 414-6713.

FOR FURTHER INFORMATION CONTACT: Peter Cross, Chief Endangered Species Division, or Lori Rinek, Chief, Conservation Planning and Recovery Division, Sacramento Fish and Wildlife Office, at (916) 414-6600.

SUPPLEMENTARY INFORMATION:

Availability of Documents

You may obtain copies of these documents for review by contacting the individuals named above [see FOR FURTHER INFORMATION CONTACT]. Documents also will be available for public inspection, by appointment, during normal business hours at the Sacramento Fish and Wildlife Office [see ADDRESSES].

Background

Section 9 of the Act and Federal regulations prohibit the “take” of fish and wildlife species listed as endangered or threatened. Take of federally listed fish and wildlife is defined under the Act to include the following activities: harass, harm, pursue, hunt, shoot, wound, kill, trap, capture, or collect, or to attempt to engage in any such conduct. We may, under limited circumstances, issue permits to authorize incidental take (i.e., take that is incidental to, and not the purpose of, the carrying out of an otherwise lawful activity). Regulations governing incidental take permits for endangered are found in 50 CFR 17.22.

The Applicant is seeking a permit for take of five federally listed animal species: the endangered San Joaquin kit fox (Vulpes macrotis mutica), blunt nosed leopard lizard (Gambelia sila), giant kangaroo rat (Dipodomys ingens), Tipton kangaroo rat (dipodomys nitratoides nitratoides), and the Buena Vista Lake shrew (Sorex ornatus relictus). The proposed permit would also authorize future incidental take of six currently unlisted animal species should any of these species become listed under the Act during the life of the permit: western burrowing owl (Athene cunicularia hypugea), Swainson's hawk (buteo swainsoni), San Joaquin antelope squirrel (Ammospermophilus nelsoni), short-nosed kangaroo rat (Dipodomys nitratoides brevinasus), white-tailed kite (Elanus leucurus) and western spadefoot (Spea hammondii). The following listed and unlisted plant species are also proposed to be included on the permit: the endangered Bakersfield cactus (Opuntia basilaris var. treleasei), and the unlisted lesser saltscale (Atriplex miniscula), recurved larkspur (Delphinium recurvatum), Lost Hills crownscale (atriplex vallicola), Kernmallow (Eremalche kernensis), San Joaquin woollythreads (Monolopia congdonii), oil neststraw (Stylocline citroleum), Bakersfield smallscale (Atriplex tularensis), Bakersfield cactus (opuntia basilaris var. treleasei) should any of these species become listed under the Act during the life of the permit. Take of listed plant species is not prohibited under the Act and cannot be authorized under a section 10 permit. However, plant species may be included on the permit in recognition of the conservation benefits provided for them under the Plan. These species would also receive “No Surprises” assurances under the Service's “No Surprises” regulation (63 FR 8859). Collectively, the 20 listed and unlisted species are referred to as the “covered species” in the Plan.

The Applicant proposes to address potential impacts of the operation, maintenance, and use of the California Aqueduct right-of-way and pumping plants within the San Joaquin Field Division. The Plan would cover the following activities: (1) Operation and maintenance activities (maintenance of embankments, roads, drainage and drainage structures, fences, and buildings and grounds; dredging and spoils removal; installation, monitoring and maintenance of observation wells; maintenance of turnout facilities, utilities and recreational facilities; and minor new construction); and (2) establishment and management of conservation areas to compensate for impacts on covered species habitat. Project activities would result in 360 acres of permanent habitat loss to covered species habitat and 935 acres of temporary impacts to covered species habitat.

The Applicant proposes to implement specific on-site measures to avoid and minimize take and associated adverse project impacts to covered species. Additionally, the Applicant proposes to mitigate for take of covered species by conserving approximately 567 acres of land located at three of their pumping plants within the Plan area.

The Service's Environmental Assessment considers the environmental consequences of five alternatives. The Proposed HCP Project Alternative consists of the issuance of the incidental take permit and implementation of the Plan and Implementing Agreement. With Alternative 2 (Operation to Breakdown), maintenance would be deferred until an emergency condition resulted, rather than performed routinely or for minor damage. With Alternative 3 (Fenceline-to-fenceline Disturbance), the entire right-of-way along the canals would be cleared of vegetation. With Alternative 4 (Alternative Maintenance Procedures), various methods of road maintenance, rodent control, vegetation control, and erosion control that were previously considered and rejected would be selected and used to develop this alternative. With the No Action alternative, the HCP would not be implemented and the applicant would apply for permits each time take occurred.

Public Review

We invite the public to review the Plan, Implementing Agreement and Environmental Assessment during a 60-day public comment period (see DATES). Before including your address, phone number, e-mail address, or other personal identifying information in your comment, you should be aware that your entire comment—including your personal identifying information—may be made publicly available at any time. While you may ask us in your comment to withhold your personal identifying information from public review, we cannot guarantee that we will be able to do so.

We provide this notice pursuant to section 10(a) of the Act and the regulations for implementing NEPA, as amended (40 CFR 1506.6). We will evaluate the application, associated documents, and comments submitted thereon to determine whether the application meets the requirements of NEPA regulations and section 10(a) of the Act. If we determine that those requirements are met, we will issue a permit to the Applicant for the incidental take of the covered species. We will make our final permit decision no sooner than 60 days from the date of this notice.

Dated: December 7, 2007.
Ken McDermond,
Deputy Regional Director, California and Nevada Region, Sacramento, California.

[FR Doc. E7-24135 Filed 12-12-07; 8:45 am]

BILLING CODE 4310-55-P